DEPARTMENT OF JUSTICE

Antitrust Division

Notice Pursuant To The National Cooperative Research and Production Act of 1993—National Center For Manufacturing Sciences, Inc.

Notice is hereby given that, on November 14, 2007, pursuant to section 6(a) of the National Cooperative Research and Production Act of 1993, 15 U.S.C. 4301 et. seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, Anautics, Inc., Oklahoma City, OK; Aspire Solutions, Inc., Fayetteville, AR; Black & Rossi, LLC, The Woodlands, TX; Northern Illinois University, Naperville, IL and Toyota Motor Engineering & Manufacturing North America, Inc., Ann Arbor, MI have been added as parties to this venture. Also, City Machine Tool and Die Co., Inc., Muncie, IN; Indiana Business Modernization and Technology Corporation, Indianapolis, IN; Intrepid Solution, LLP, The Woodlands, TX; Kettering University, Flint, MI; Monode Marking Products, Inc., Mentor, OH; Software Productivity Consortium NFP, Inc., Herndon, VA; and Wisconsin Department of Development, Madison, WI have withdrawn as parties to this venture.

In addition, BiODE, Inc. has changed its name to Vectron International, Westbrook, ME and Cincinnati Lamb to Cincinnati Machine, LLC, Hebron, KY.

No other changes have been made in either the membership or planned activity of the group research project. Membership in this group research project remains open, and NCMS intends to file additional written notification disclosing all changes in membership.

On February 20, 1987, NCMS filed its original notification pursuant to section 6(a) of the Act. The Department of Justice published a notice in the Federal Register pursuant to section 6(b) of the Act on March 17, 1987 (52 FR 8375).

The last notification was filed with the Department of Justice on July 24, 2007. A notice was published in the Federal Register pursuant to section 6(b) of the Act on August 27, 2007 (72 FR 49017).

Patricia A. Brink,
Deputy Director of Operations, Antitrust Division.

[FR Doc. 08-756 Filed 2-19-08; 8:45 am]

BILLING CODE 4410-11-M